OFFICE OF MANAGEMENT AND BUDGET

Request of the U.S. Intellectual Property Enforcement Coordinator for Public Comments: Development of the Joint Strategic Plan on Intellectual Property Enforcement

AGENCY: Office of the U.S. Intellectual Property Enforcement Coordinator, Executive Office of the President, Office of Management and Budget.

ACTION: Request for written submissions from the public.

SUMMARY: The Federal Government is starting the process to develop a new 3-year Joint Strategic Plan on Intellectual Property Enforcement. By committing to common goals, the U.S. Government will more effectively and efficiently promote and protect our intellectual property. In this request for comments, the Executive Office of the President (“EOP”), Office of the U.S. Intellectual Property Enforcement Coordinator invites public input and participation in shaping the Administration's intellectual property enforcement strategy.

The Office of the U.S. Intellectual Property Enforcement Coordinator (“IPEC”) is charged with developing, with certain Federal departments and agencies, the Administration's Joint Strategic Plan on Intellectual Property Enforcement for submission to Congress every three years. The previous 3-year Joint Strategic Plans were issued in 2010, 2013, and 2016. To assist IPEC and Federal agencies in our preparation of the fourth 3-year plan, IPEC requests input and recommendations from the public for improving the U.S. Government's intellectual property enforcement efforts, along the lines of this Administration's four-part strategic approach, described in greater detail below.

DATES: Submissions must be received on or before November 13, 2018, at 5 p.m.

ADDRESSES: All submissions should be electronically submitted to http://www.regulations.gov. If you are unable to provide submissions to regulations.gov, you may contact the Office of the U.S. Intellectual Property Enforcement Coordinator at intellectualproperty@omb.eop.gov using the subject line “Development of the Joint Strategic Plan on Intellectual Property Enforcement” to arrange for an alternate method of transmission. The regulations.gov website is a Federal E-Government website that allows the public to find, review and submit comments on documents that have published in the Federal Register and that are open for comment. Submissions filed via the regulations.gov website will be available to the public for review and inspection. For this reason, please do not include in your comments information of a confidential nature, such as sensitive personal information or proprietary business information.

FOR FURTHER INFORMATION CONTACT: John Levock, 202-395-3826, Office of the U.S. Intellectual Property Enforcement Coordinator, at intellectualproperty@omb.eop.gov.

SUPPLEMENTARY INFORMATION: Since January 2017, President Trump and his Administration have worked to promote strong intellectual property rights protection and enforcement, both domestically and abroad. As part of an integrated approach, the Trump Administration views our intellectual property strategy, policy and enforcement efforts, together, as key to helping secure the future of our innovative economy and to maintaining our competitive advantage. As the Administration continues to build on past strategic efforts in all areas of intellectual property policy (including patents, copyrights, trademarks and trade secrets), both domestically and abroad, the Administration also recognizes that for the United States to maintain its future economic competitiveness, we need to think strategically and shift the paradigm to one where we not only place America First, but regard America's inventive and creative capacity as something that we must protect, promote and prioritize.

As explained in the Annual Intellectual Property Report to Congress (https://www.whitehouse.gov/wp-content/uploads/2017/11/2018Annual_IPEC_Report_to_Congress.pdf), the Trump Administration has taken significant actions to promote and protect intellectual property. The Administration's four-part strategic approach includes engagement with our trading partners; effective use of all our legal authorities, including our trade tools; expanded law enforcement action and cooperation; and engagement and partnership with the private sector and other stakeholders. The goal is to ensure a level playing field for American innovators and creators, where their innovations and creations are respected and protected, and for systems to be in place that allow American businesses to operate in a free, fair and open marketplace.

As the United States government works to advance American economic interests overseas, a significant component of our enforcement and protection efforts includes addressing trade enforcement, market access, competition, digital trade, cybersecurity, and rule of law concerns in the intellectual property space around the world. American innovators and creators must be able to operate in foreign markets that provide them with clear paths to secure and use their IP. Countries and foreign companies should not be allowed to profit from the theft or misappropriation of American intellectual property through actions including trade secret theft, IP infringement, piracy, forced technology transfers or localization requirements. Additionally, American brand holders must have full and fair opportunity to market and sell their products and use their properly registered trademarks across the globe, without undue restrictions.

To that end, and as set forth by the PRO IP Act (15 U.S.C. 8113), the objectives of the Joint Strategic Plan include:

• Reducing the supply of infringing goods, domestically and internationally;

• Identifying weaknesses, duplication of efforts, waste, and other unjustified impediments to effective enforcement actions;

• Promoting information sharing between participating agencies to the extent permissible by law;

• Disrupting and eliminating infringement networks in the U.S. and in other countries;

• Strengthening the capacity of other countries to protect and enforce intellectual property rights;

• Reducing the number of countries that fail to enforce intellectual property rights effectively;

• Assisting other countries to more effectively enforce intellectual property rights;

• Protecting intellectual property rights in other countries by:

○ Working with other countries to reduce intellectual property crimes in other countries;

○ Improving information sharing between U.S. and foreign law enforcement agencies; and

○ Establishing procedures for consulting with interested groups within other countries;

• Establishing effective and efficient training programs and other forms of technical assistance to enhance the enforcement efforts of foreign governments through:

○ Minimizing the duplication of U.S. Government training and assistance efforts;

○ Prioritizing deployment of U.S. Government resources to those countries where programs can be carried out most effectively with the greatest impact on reducing the number of infringing products imported into the United States, while also protecting the intellectual property rights of U.S. rights holders and the interests of U.S. persons otherwise harmed by infringements in other countries.

IPEC welcomes input and recommendations from the public for improving the U.S. Government's intellectual property enforcement efforts.

In submitting comments for the development of the fourth Joint Strategic Plan, comments should be organized along the lines of the Administration's four-part strategic approach to promote and protect intellectual property (as discussed above and in IPEC's Annual Intellectual Property Report to Congress):

• Engagement with our trading partners

• Effective use of all our legal authorities, including our trade tools

• Expanded law enforcement action and cooperation

• Engagement and partnership with the private sector and other stakeholders.

Vishal J. Amin,
United States Intellectual Property Enforcement Coordinator, Executive Office of the President.

[FR Doc. 2018-19863 Filed 9-12-18; 8:45 am]

BILLING CODE 3110-01-P